DEPARTMENT OF DEFENSE

Department of the Navy

Notice of Availability of Government-Owned Inventions; Available for Licensing

AGENCY: Department of the Navy, DoD.

ACTION: Notice.

SUMMARY: The invention listed below is a CRADA Subject Invention, jointly-made under NCRADA-NAWCWDCL-03-111, and is assigned to Reynolds Systems, Inc. The United States Government, as represented by the Secretary of the Navy, has an undivided interest in this invention. U.S. Patent No. 7,661,362: Energetic material initiation device utilizing exploding foil initiated ignition system with secondary explosive material.

ADDRESSES: Requests for copies of the inventions cited should be directed to Naval Air Warfare Center Weapons Division, Code 4L4000D, 1900 N. Knox Road Stop 6312, China Lake, CA 93555-6106 and must include the Navy Case number.

FOR FURTHER INFORMATION CONTACT: Michael D. Seltzer, Ph.D., Head, Technology Transfer Office, Naval Air Warfare Center Weapons Division, Code 4L4000D, 1900 N. Knox Road Stop 6312, China Lake, CA 93555-6106, telephone 760-939-1074, FAX 760-939-1210, E-mail: michael.seltzer@navy.mil.

Authority: 35 U.S.C. 207, 37 CFR 404.7.

Dated: March 3, 2011.
D. J. Werner,
Lieutenant Commander, Judge Advocate General's Corps, U.S. Navy, Federal Register Liaison Officer.

[FR Doc. 2011-5569 Filed 3-9-11; 8:45 am]

BILLING CODE 3810-FF-P